DEPARTMENT OF ENERGY

Federal Energy Regulatory Commission

Combined Notice of Filings #1

Take notice that the Commission received the following electric rate filings:

Docket Numbers: ER23-883-001; ER10-1852-080; ER10-1951-056; ER10-1971-036; ER10-2641-046; ER11-4462-079; ER16-1277-016; ER16-1293-016; ER16-1354-015; ER16-1913-013; ER19-774-011; ER19-2266-009; ER19-2269-009; ER21-254-008; ER21-255-008; ER21-1506-007; ER21-1519-006; ER21-1532-006; ER21-1682-006.

Applicants: Elora Solar, LLC, Quitman II Solar, LLC, Cool Springs Solar, LLC, Shaw Creek Solar, LLC, Taylor Creek Solar, LLC, Harmony Florida Solar, LLC, Dougherty County Solar, LLC, Quitman Solar, LLC, Stanton Clean Energy, LLC, River Bend Solar, LLC, Live Oak Solar, LLC, White Oak Solar, LLC, White Pine Solar, LLC, NEPM II, LLC, Oleander Power Project, Limited Partnership, NextEra Energy Power Marketing, LLC, NextEra Energy Services Massachusetts, LLC, Florida Power & Light Company, Bell Ridge Solar, LLC.

Description: Triennial Market Power Analysis for Southeast Region of Bell Ridge Solar, LLC, et al.

Filed Date: 6/30/23.

Accession Number: 20230630-5499.

Comment Date: 5 p.m. ET 8/29/23.

Docket Numbers: ER23-2075-001.

Applicants: FirstEnergy Service Company, PJM Interconnection, L.L.C.

Description: Tariff Amendment: FirstEnergy Service Company submits tariff filing per 35.17(b): FirstEnergy submits Amendment of OIA, Service Agreement No. 2853 to be effective 8/5/2023.

Filed Date: 7/11/23.

Accession Number: 20230711-5138.

Comment Date: 5 p.m. ET 8/1/23.

Docket Numbers: ER23-2369-000.

Applicants: Wildflower Solar 3 LLC.

Description: Baseline eTariff Filing: Certificate of Concurrence to be effective 9/6/2023.

Filed Date: 7/11/23.

Accession Number: 20230711-5124.

Comment Date: 5 p.m. ET 8/1/23.

Docket Numbers: ER23-2370-000.

Applicants: Oklahoma Gas and Electric Company, Southwest Power Pool, Inc.

Description: § 205(d) Rate Filing: Oklahoma Gas and Electric Company submits tariff filing per 35.13(a)(2)(iii: Submission of Revisions to the FRT of OGE to Incorp Changes Accepted in ER23-597 to be effective 2/11/2023.

Filed Date: 7/11/23.

Accession Number: 20230711-5130.

Comment Date: 5 p.m. ET 8/1/23.

Docket Numbers: ER23-2371-000.

Applicants: PJM Interconnection, L.L.C.

Description: § 205(d) Rate Filing: Original IISA, SA No. 6987 and ICSA, SA No. 6988; Queue No. AF1-129 to be effective 6/15/2023.

Filed Date: 7/12/23.

Accession Number: 20230712-5005.

Comment Date: 5 p.m. ET 8/2/23.

Docket Numbers: ER23-2372-000.

Applicants: Midcontinent Independent System Operator, Inc.

Description: § 205(d) Rate Filing: 2023-07-12_SA 3497 Duke Energy-Fairbanks Solar Energy 1st Rev GIA (J829) to be effective 6/30/2023.

Filed Date: 7/12/23.

Accession Number: 20230712-5026.

Comment Date: 5 p.m. ET 8/2/23.

Docket Numbers: ER23-2373-000.

Applicants: Public Service Company of Oklahoma.

Description: § 205(d) Rate Filing: PSO-AEPOTC-WFEC Amended and Restated Doxey Delivery Point Agreement to be effective 6/20/2023.

Filed Date: 7/12/23.

Accession Number: 20230712-5031.

Comment Date: 5 p.m. ET 8/2/23.

Docket Numbers: ER23-2374-000.

Applicants: PJM Interconnection, L.L.C.

Description: § 205(d) Rate Filing: Original ISA/CSA, Service Agreement Nos. 6990 and 6991; Queue No. AE2-166 to be effective 9/11/2023.

Filed Date: 7/12/23.

Accession Number: 20230712-5045.

Comment Date: 5 p.m. ET 8/2/23.

Docket Numbers: ER23-2376-000.

Applicants: Horus West Virginia I, LLC.

Description: Baseline eTariff Filing: Horus West Virginia I, LLC MBR Application Filing to be effective 9/11/2023.

Filed Date: 7/12/23.

Accession Number: 20230712-5103.

Comment Date: 5 p.m. ET 8/2/23.

Docket Numbers: ER23-2377-000.

Applicants: Southwestern Electric Power Company.

Description: Informational Filing regarding Construction Work in Progress Expenditures of Southwestern Electric Power Company.

Filed Date: 7/12/23.

Accession Number: 20230712-5154.

Comment Date: 5 p.m. ET 8/2/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 12, 2023.
Debbie-Anne A. Reese,
Deputy Secretary.

[FR Doc. 2023-15181 Filed 7-17-23; 8:45 am]

BILLING CODE 6717-01-P